ENVIRONMENTAL PROTECTION AGENCY

[FRL-9904-20-OARM]

Senior Executive Service Performance Review Board; Membership

AGENCY: U.S. Environmental Protection Agency.

ACTION: Notice.

SUMMARY: Notice is hereby given of the membership of the U.S. Environmental Protection Agency Performance Review Board for 2013.

FOR FURTHER INFORMATION CONTACT: Karen D. Higginbotham, Director, Executive Resources Division, 3606A, Office of Human Resources, Office of Administration and Resources Management, U.S. Environmental Protection Agency, 1200 Pennsylvania Avenue NW., Washington, DC 20460, (202) 564-7287.

SUPPLEMENTARY INFORMATION: Section 4314(c)(1) through (5) of Title 5, U.S.C., requires each agency to establish in accordance with regulations prescribed by the Office of Personnel Management, one or more SES performance review boards. This board shall review and evaluate the initial appraisal of a senior executive's performance by the supervisor, along with any recommendations to the appointment authority relative to the performance of the senior executive.

Members of the 2013 EPA Performance Review Board are:

Benita Best-Wong, Deputy Director, Office of Wetlands, Oceans and Watersheds, Office of Water

Jeanne Brisken, Research Program Manager, Office of Research and Development

David Bloom, Director, Office of Budget, Office of the Chief Financial Officer

David Lloyd, Director, Office of Brownfields and Land Revitalization, Office of Solid Waste and Emergency Response

Diane Bazzle, Director, Office of the Executive Services, Office of the Administrator

Denise Benjamin-Sirmons, Director, Office of Diversity, Advisory Committee Management and Outreach, Office of Administration and Resources Management

Sarah Dunham, Director, Office of Atmospheric Programs, Office of Air and Radiation

James Giattina, Director, Water Management Division, Region 4

Robin Gonzalez, Director, Enterprise IT Systems, Office of Environmental Information

Sally Gutierrez, Chief, Environmental Technology Innovation Cluster Development and Support Program, Office of Research and Development

David Dix, Director, Office of Science Coordination and Policy, Office of Chemical Safety and Pollution Prevention

Karen D. Higginbotham (Ex-Officio), Director, Executive Resources Division, Office of Human Resources, Office of Administration and Resources Management

Peter Jutro, Senior Scientist, National Homeland Security Research Center, Office of Research and Development

Susan Kantrowitz (Ex-Officio), Director, Office of Human Resources, Office of Administration and Resources Management

Brenda Mallory, Principal Deputy General Counsel, Office of General Counsel

Suzanne Murray, Regional Counsel, Region 6, Office of Enforcement and Compliance Assurance

Cheryl Newton, Assistant Regional Administrator for Resources Management, Region 5

George Pavlou, Deputy Regional Administrator, Region 2

Cynthia Sonich-Mullin, Director, National Risk Management Research Laboratory, Cincinnati, Office of Research and Development

Katrina Cherry, Director, Office of Management and International Services, Office of International and Tribal Affairs

Alexis Strauss-Hacker, Deputy Regional Administrator, Region 9

Dated: December 9, 2013.
Nanci E. Gelb,
Deputy Assistant Administrator, Administration and Resources Management.

[FR Doc. 2013-30330 Filed 12-19-13; 8:45 am]

BILLING CODE 6560-50-P